DEPARTMENT OF AGRICULTURE

Forest Service

Ashley Resource Advisory Committee

AGENCY: Forest Service, USDA.

ACTION: Notice of meeting.

SUMMARY: The Ashley Resource Advisory Committee will meet in Vernal, Utah. The committee is meeting as authorized under the Secure Rural Schools and Community Self-Determination Act (Pub. L. 110-343) and in compliance with the Federal Advisory Committee Act. The purpose of the meeting is conduct introductions, finalize guidelines for committee functions, capture, record and provide feedback about preliminary project ideas, discuss project ideas and receive public comment on the meeting subjects and proceedings.

DATES: The meetings will be held December 2, 2010 and January 6, 2011, from 6 p.m. to 8 p.m.

ADDRESSES: The meeting will be held in the Interagency Fire Dispatch Center conference room at the Ashley National Forest Supervisor's Office, 355 North Vernal Avenue in Vernal, Utah. Written comments should be sent to Ashley National Forest, 355 North Vernal Avenue, Vernal, UT 84078. Comments may also be sent via e-mail to ljhaynes@fs.fed.us, or via facsimile to 435-781-5142.

All comments, including names and addresses when provided, are placed in the record and are available for public inspection and copying. The public may inspect comments received at Ashley National Forest, 355 North Vernal Avenue, Vernal. UT.

FOR FURTHER INFORMATION CONTACT: Louis Haynes, RAC Coordinator, Ashley National Forest, (435) 781-5105; e-mail: ljhaynes@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Welcome and roll call; (2) Approval of meeting minutes; (3) Approval of committee operational guidelines; (4) Review concept papers received; (5) discussion of preliminary project ideas; (6) review of next meeting purpose, location, and date; (7) Receive public comment. Persons who wish to bring related matters to the attention of the Committee may file written statements with the committee staff before or after the meeting. Public input sessions will be provided and individuals who made written requests by November 29, 2010 and December 28, 2010 will have the opportunity to address the committee at these meetings.

Dated: November 8, 2010.
Kevin B. Elliott,
Forest Supervisor.

[FR Doc. 2010-28941 Filed 11-17-10; 8:45 am]

BILLING CODE 3410-11-M